DEPARTMENT OF HOMELAND SECURITY

Coast Guard

33 CFR Part 110

[Docket Number USCG-2016-0897]

RIN 1625-AA01

Anchorage Grounds; Atlantic Ocean, Jacksonville, FL; Correction

AGENCY: Coast Guard, DHS.

ACTION: Supplemental notice of proposed rulemaking; correction.

SUMMARY: This document corrects a docket number listed in a supplemental notice of proposed rulemaking that was published July 6, 2020. That supplemental notice of proposed rulemaking would establish a dedicated offshore anchorage approximately 7 nautical miles northeast of the St. Johns River inlet, Florida.

FOR FURTHER INFORMATION CONTACT: If you have questions about this proposed rulemaking, call or email LT Emily Sysko, Sector Jacksonville Waterways Management Division Chief, U.S. Coast Guard; telephone 904-714-7616, email Emily.T.Sysko@uscg.mil.

SUPPLEMENTARY INFORMATION:

Background

This document corrects a docket number listed in the ADDRESSES section of a supplemental notice of proposed rulemaking (SNPRM) published July 6, 2020 (85 FR 40153). That SNPRM would establish a dedicated offshore anchorage approximately 7 nautical miles northeast of the St. Johns River inlet, Florida.

Need for Correction

As published, the SNPRM contained an error in the docket number listed in the ADDRESSES section which is misleading and is in need of correction. This action is needed to avoid confusion as to the correct docket number for that rulemaking, USCG-2016-0897. The Coast Guard will review and consider comments submitted on or before September 4, 2020 to the incorrect docket, but this document establishes what is the correct docket number for this rulemaking.

Correction of Publication

Accordingly, the FR Doc. 2020-13827, supplemental notice of proposed rulemaking published July 6, 2020 (85 FR 40153) is corrected as follows: The Coast Guard docket number on page 40153, starting in line two of the ADDRESSES section, is corrected to read “USCG-2016-0897”.

Dated: July 9, 2020.
J.E. McLeod,
Acting Chief, Office of Regulations and Administrative Law.

[FR Doc. 2020-15223 Filed 7-21-20; 8:45 am]

BILLING CODE 9110-04-P